SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before May 19, 2023.

ADDRESSES: Send all comments to Takeisha Hodge, Program Support Manager, Office of HUBZone Program, Small Business Administration, Washington, DC 20416.

FOR FURTHER INFORMATION CONTACT: Takeisha Hodge, Program Support Manage, Office of HUBZone Program, 202-255-7022, takeisha.dubosehodge@sba.gov or Curtis B. Rich, Agency Clearance Officer, 202-205-7030, curtis.rich@sba.gov.

SUPPLEMENTARY INFORMATION: This collection is essential to the Agency's mission because if SBA designates an area as a Governor-designated covered area, based on the information provided by the State Governor, additional small businesses may become eligible for certification as HUBZone small business concerns, which in turn will provide them with more contracting opportunities. These additional contracting opportunities create incentives for individuals to start small businesses and allow existing small businesses to grow. SBA has taken all practicable steps to consult with interested agencies and members of the public to minimize the burden of this information collection. SBA intends to make available on its Website a list of the areas within each State that meet the statutory definition of “covered area” according to the most recent Bureau of the Census data. This will minimize the burden on State governments by eliminating the need to gather this data and do the necessary analysis to determine which areas may meet the definition of “covered area.” Finally, pursuant to 5 CFR 1320.13(d), SBA also requests a waiver from the requirement to publish a 60-day notice in the Federal Register requesting comments on this information collection. SBA will publish the required notice as part of the standard submission process before the emergency approval expires.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0403.

Title: HUBZone Program Petition for Governor-Designated Covered Areas.

Description of Respondents: Governor-designated covered areas.

Form Number: N/A.

Total Estimated Annual Responses: 63.

Total Estimated Annual Hour Burden: 265.

Curtis B. Rich,
Agency Clearance Officer.

[FR Doc. 2023-05580 Filed 3-17-23; 8:45 am]

BILLING CODE 8026-09-P